DEPARTMENT OF HEALTH AND HUMAN SERVICES

National Institutes of Health

Prospective Grant of Exclusive License: “Antiprogestins With Partial Agonist Activity

AGENCY: National Institutes of Health, Public Health Service, DHHS.

ACTION: Notice.

SUMMARY: This is notice, in accordance with 35 U.S.C. 209(c)(1) and 37 CFR 404.7(a)(1)(i), that the National Institutes of Health (NIH), Department of Health and Human Services, is contemplating the grant of an exclusive license worldwide to practice the invention embodied in: U.S. Patent Application Serial No. 60/192,039, filed March 24, 2000, now converted into PCT application number PCT/US01/09395 filed March 23, 2001 entitled, “Antiprogestins with Partial Agonist Activity” to Dimera Inc., having a place of business in the state of Oregon. The field of use may be limited to anti-anginal protection/therapy and female reproduction therapies. The United States of America is the assignee of the patent rights in this invention.

DATES: Only written comments and/or application for a license, which are received by the NIH Office of Technology Transfer on or before October 28, 2002 will be considered.

ADDRESSES: Requests for a copy of the patent applications, inquiries, comments and other materials relating to the contemplated license should be directed to: Marlene Shinn, Technology Licensing Specialist, Office of Technology Transfer, National Institutes of Health, 6011 Executive Boulevard, Suite 325, Rockville, MD 20852-3804; Telephone: (301) 496-7056, ext. 285; Facsimile: (301) 402-0220; e-mail: MS482M@NIH.GOV.

SUPPLEMENTARY INFORMATION: This technology relates to the results that two derivatives of the potent glucocorticoid dexamethasone show partial agonist activity under a variety of conditions. These steroids have demonstrated affinities for the cell free progesterone receptor that are consistent with their whole cell action arising under conditions where other reported partial progestins were inactive. Of these new antiprogestins that are described in this invention, both Dex-Mes and Dex-ox would be both extremely useful for mechanistic studies in tissue culture systems. Dex-ox is chemically unreactive, while both exhibit considerable amounts of agonist activity under certain circumstances and are partial agonist for glucocorticoid receptors.

The prospective exclusive license will be royalty-bearing and will comply with the terms and conditions of 35 U.S.C. 209 and 37 CFR 404.7. The prospective exclusive license may be granted unless, within 60 days from the date of this published Notice, NIH receives written evidence and argument that establishes that the grant of the license would not be consistent with the requirements of 35 U.S.C. 209 and 37 CFR 404.7.

Properly filed competing applications for a license filed in response to this notice will be treated as objections to the contemplated license. Comments and objections submitted in response to this notice will not be made available for public inspection, and, to the extent permitted by law, will not be released under the Freedom of Information Act, 5 U.S.C. 552.

Dated: August 22, 2002.
Jack Spiegel,
Director, Division of Technology Development and Transfer, Office of Technology Transfer.

[FR Doc. 02-22075 Filed 8-28-02; 8:45 am]

BILLING CODE 4140-01-P